DEPARTMENT OF TRANSPORTATION

Federal Railroad Administration

[Docket No. FRA-2000-7257, Notice No. 97]

Railroad Safety Advisory Committee; Organizations Eligible To Submit Names for Appointment

AGENCY: Federal Railroad Administration (FRA), Department of Transportation (DOT).

ACTION: Request for public comments.

SUMMARY: The Federal Railroad Administration (FRA) seeks public comment on potential changes to the list of organizations that are eligible to submit the names of individuals for appointment as Committee members to the Railroad Safety Advisory Committee (RSAC), a Federal Advisory Committee that provides advice and recommendations to FRA on railroad safety matters through a consensus process.

DATES: Interested persons must submit any comments to FRA by November 14, 2024.

FOR FURTHER INFORMATION CONTACT: Comments should be submitted to Kenton Kilgore, RSAC Designated Federal Officer/RSAC Coordinator, FRA Office of Railroad Safety, at kenton.kilgore@dot.gov., who can also be reached at (202) 365-3724.

SUPPLEMENTARY INFORMATION: This Notice is provided in accordance with the Federal Advisory Committee Act (Pub. L. 92-463, 5 U.S.C. ch. 10). RSAC is a Federal Advisory Committee established by the U.S. Secretary of Transportation in accordance with the Federal Advisory Committee Act to provide information, advice, and recommendations to the FRA Administrator on matters relating to railroad safety. RSAC is composed of 51 voting representatives from 26 member organizations, representing various rail industry perspectives. The diversity of RSAC ensures the requisite range of views and expertise necessary to discharge its responsibilities.

Membership selection will be based on materials submitted and in a manner that ensures equal opportunity for all people consistent with all Federal anti-discrimination laws that prohibit discrimination on the basis of race, color, religion, sex, gender identity, sexual orientation, national origin, disability or age. Membership solicitation will be undertaken in a manner that encourages participation by members of underrepresented and underserved communities in accordance with Executive Order 13985.

This Notice seeks comments concerning future changes to the list of organizations that are eligible to submit the names of individuals for appointment as Committee members. A list of current organizations represented on the RSAC is available online at https://rsac.fra.dot.gov/organizations. FRA is specifically interested in comments concerning changes to or maintenance of the current composition of organizations eligible to nominate individual members to ensure: (1) diversity of the requisite range of views and expertise necessary for RSAC to discharge its responsibilities; (2) fairly balanced RSAC membership to reflect points of view representative of the railroad community, including those of railroad owners, manufacturers, suppliers, labor groups, State government groups, and public associations; and (3) participation by members of underrepresented and underserved communities. FRA will consider these comments in deciding on a potential future amendment to the RSAC charter.

Issued in Washington, DC.
Amitabha Bose,
Administrator.

[FR Doc. 2024-23704 Filed 10-11-24; 8:45 am]

BILLING CODE 4910-06-P